DEPARTMENT OF THE INTERIOR

Minerals Management Service

Environmental Documents Prepared for Proposed Oil and Gas Operations on the Gulf of Mexico Outer Continental Shelf (OCS)

AGENCY: Minerals Management Service, Interior.

ACTION: Notice of the availability of environmental documents; prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Apache Corporation, Structure Removal SEA ES/SR 06-120 | Ship Shoal, Block 292, Lease OCS-G 12000, located 55 miles from the nearest Louisiana shoreline | 8/23/2006
Maritech Resources, Inc., Structure Removal SEA ES/SR 06-131 | Galveston, Block 273, Lease OCS-G 09037, located 12 miles from the nearest Texas shoreline | 10/4/2006
Maritech Resources, Inc., Structure Removal SEA ES/SR 06-133, 06-134 | Galveston, Block 363, Lease OCS-G 06113, located 13 and 15 miles, respectively, from the nearest Texas shoreline | 10/5/2006
CGG Americas, Inc., Geological & Geophysical Exploration for Mineral Resources SEA L06-44 | Located in the central Gulf of Mexico south of Cocodrie, Louisiana | 10/10/2006
Veritas DGC Corporation, Geological & Geophysical Exploration for Mineral Resources SEA L06-46 | Located in the central Gulf of Mexico south of Grand Isle, Louisiana | 10/10/2006
Mariner Energy, Inc., Structure Removal SEA ES/SR 06-039 | South Marsh Island (South), Block 76, Lease OCS-G 01208, located 60 miles from the nearest Louisiana shoreline | 10/17/2006
Maritech Resources, Inc., Structure Removal SEA ES/SR 05-121 | Vermilion, Block 355, Lease OCS-G 12876, located 92 miles from the nearest Louisiana shoreline | 10/18/2006
Apache Corporation, Structure Removal SEA ES/SR 06-135 | West Delta, Block 40, Lease OCS-G 01072, located 15 miles from the nearest Louisiana shoreline | 10/20/2006
W & T Offshore, Inc., Structure Removal SEA ES/SR 06-137 | Ship Shoal, Block 177, Lease OCS 00590, located 42 miles from the nearest Louisiana shoreline | 10/23/2006
Newfield Exploration Company, Structure Removal SEA ES/SR 06-019 | West Cameron (South), Block 601, Lease OCS-G 03386, located 100 miles from the nearest Louisiana shoreline | 11/3/2006
GOM Shelf, LLC, Structure Removal SEA ES/SR 06-140 | Eugene Island, Block 142, Lease OCS-G 10726, located 24 miles from the nearest Louisiana shoreline | 11/6/2006
Devon Energy Production Company, L.P., Structure Removal SEA ES/SR 06-144 | Eugene Island, Block 330, Lease OCS-G 02115, located 82 miles from the nearest Louisiana shoreline | 11/8/2006
Fugro Multiclient Services, Inc., Geological & Geophysical Exploration for Fugro Geoteam, AS SEA L06-49 | Located in the central Gulf of Mexico south of Mobile, Alabama | 11/8/2006
Union Oil Company of California, Structure Removal SEA ES/SR 06-143 | Eugene Island, Block 33, Lease OCS-G 03560, located 6 miles from the nearest Louisiana shoreline | 11/14/2006
Remington Oil and Gas Corporation, Structure Removal SEA ES/SR 06-139 | West Cameron, Block 428, Lease OCS-G 22554, located 70 miles from the nearest Louisiana shoreline | 11/16/2006
Apache Corporation, Structure Removal SEA ES/SR 06-150 | South Marsh Island, Block 95, Lease OCS-00790, located 99 miles from the nearest Louisiana shoreline | 11/27/2006
Apache Corporation, Structure Removal SEA ES/SR 06-118 | East Cameron, Block 353, Lease OCS-G 02264, located 108 miles from the nearest Louisiana shoreline | 11/28/2006
Western Geco, Geological & Geophysical Exploration for Mineral Resources SEA L06-54 | Located in the central Gulf of Mexico south of Gulfport, Mississippi | 11/29/2006
Apache Corporation, Structure Removal SEA ES/SR 06-141, 06-145, 06-146 | East Cameron, Block 48, Lease OCS-G 00768, located 18 miles from the nearest Louisiana shoreline | 11/30/2006
TGS-Nopec Geophysical Company ASA, Geological & Geophysical Prospecting for Mineral Resources SEA L06-53 | Located in the central Gulf of Mexico south of Pascagoula, Mississippi | 12/11/2006
Stone Energy Corporation, Structure Removal SEA ES/SR 06-156 | East Cameron, Block 220, Lease OCS-G 03323, located 69 miles from the nearest Louisiana shoreline | 12/13/2006
ATP Oil & Gas Corporation, Structure Removal SEA ES/SR 06-157 | South Marsh Island, Block 7, Lease OCS-G 13896, located 42 miles from the nearest Louisiana shoreline | 12/13/2006
Union Oil Company of California, Structure Removal SEA ES/SR 06-159, 06-160, 06-161, 06-162 | Eugene Island, Block 33, Lease OCS-G 03560, located 9 miles from the nearest Louisiana shoreline | 12/14/2006
BP Exploration & Production, Inc., Geological & Geophysical Prospecting for Mineral Resources SEA T06-36 | Located in the western Gulf of Mexico south of Galveston, Texas | 12/19/2006
Apache Corporation, Structure Removal SEA ES/SR 06-149 | Ship Shoal, Block 204, Lease OCS-G 01520, locates 43 miles from the nearest Louisiana shoreline | 12/19/2006
Apache Corporation, Structure Removal SEA ES/SR 06-151, 06-152 | West Delta, Block 75, Lease OCS-G 01085, located 17 miles from the nearest Louisiana shoreline | 12/27/2006

Persons interested in reviewing environmental documents for the proposals listed above or obtaining information about SEAs and FONSIs prepared for activities on the Gulf of Mexico OCS are encouraged to contact MMS at the address or telephone listed in the FOR FURTHER INFORMATION CONTACT section.

Dated: January 19, 2007.
Chris C. Oynes,
Regional Director, Gulf of Mexico OCS Region.

[FR Doc. E7-4310 Filed 3-8-07; 8:45 am]

BILLING CODE 4310-MR-P